DEPARTMENT OF ENERGY

Federal Energy Regulatory Commission

[Docket No. CP00-388-000]

PNM Electric and Gas Services, Inc.; Notice of Application

June 21, 2000.

Take notice that on June 13, 2000 PNM Electric and Gas Services, Inc. (UtilityCo), filed in Docket No. CP00-388-000, an application pursuant to section 7(c) of the Natural Gas Act and section 284.224 of the Rules and Regulations of the Federal Energy Commission (Commission) for a blanket certificate of public convenience and necessity authorizing the transportation and sale of natural gas in interstate commerce and the assignment of contractual rights to natural gas to the same extent and in the manner that intrastate pipelines are authorized to engage in such activities under Section 311 and 312 of the Natural Gas Policy Act of 1978.

This filing is being made in connection with a corporate reorganization by Public Service Company of New Mexico mandated by the Electric Utility Industry Restructuring Act of 1999 (Restructuring Act). The purpose and substantive effect will be to permit the PNM corporate family to continue to conduct the same business activity previously authorized by the Commission but using new corporate entities required by the Restructuring Act. UtilityCo is not seeking any authorizations that are different from those currently held by PNM. Upon the receipt of the necessary regulatory approvals, including the Commission's disposition of this application, the existing gas transmission and distribution facilities and operations of PNM will be acquired and operated by UtilityCo. UtilityCo, as the successor to PNM, will be a natural gas distribution company with facilities located entirely within the State of New Mexico. All of the gas purchased by UtilityCo will be consumed within the state and UtilityCo, like PNM, will be subject to regulation by a state commission with respect to its natural gas rates, services, and facilities. The present operations of PNM are the subject of a section 1(c) exemption from the jurisdiction of the Natural Gas Act by Commission order issued January 17, 1985, in Docket No. CP84-683-000. UtilityCo states that PNM is exempt from the provisions of the Natural Gas Act pursuant to section 1(c) thereof. Therefore, UtilityCo, as successor to PNM, will be a Hinshaw pipeline eligible to perform certain transportation, sales and assignments of natural gas pursuant to Section 284.224 of the Commission's Regulations.

Any person desiring to be heard or to make any protest with reference to said application should on or before July 12, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to jurisdiction conferred upon the Federal Energy Commission by Sections 7 and 15 of the Natural Gas Act and the Commission's Rules, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for UtilityCo to appear or to be represented at the hearing.

David P. Boergers,
Secretary.

[FR Doc. 00-16126 Filed 6-26-00; 8:45 am]

BILLING CODE 6717-01-M